DEPARTMENT OF COMMERCE

National Oceanic and Atmospheric Administration

Proposed Information Collection; Comment Request; Alaska Pacific Halibut Fisheries: Charter Recordkeeping

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 23, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Patsy A. Bearden, (907) 586-7008 or Patsy.Bearden@noaa.gov.

SUPPLEMENTARY INFORMATION:

I. Abstract

This request is for extension of a currently approved information collection.

Management of and regulations for Pacific halibut in Alaska are developed on the international, Federal, and state levels by the International Pacific Halibut Commission (IPHC), the North Pacific Fishery Management Council (Council), National Marine Fisheries Service, Alaska Region (NMFS), and the State of Alaska Department of Fish and Game (ADF&G). The IPHC and NMFS manage fishing for Pacific halibut through regulations established under authority of the Convention between the United States Halibut Fishery of the Northern Pacific Ocean and Bering Sea (Convention), the Northern Pacific Halibut Act of 1982, 16 U.S.C. 773c (Halibut Act), and Section 303(b) of the Magnuson-Stevens Fishery Conservation and Management Act (16 U.S.C. 1801 et seq.). Regulations that implement this collection-of-information are found at 50 CFR part 300.60 through 300.66 and at 50 CFR 679.5(l)(7).

Annual catch quotas are determined by the IPHC, and Federal responsibility for halibut management extends to halibut stocks and fishing activity within State of Alaska waters. In order to manage halibut effectively, international and Federal managers need information on halibut fishing effort and harvest by all user groups, including the guided sport charter sector of the fishery.

Federal regulations at 50 CFR 300.65 require charter vessel operators fishing in IPHC Areas 2C and 3A to comply with the ADF&G annual registration of sport fishing guides and businesses and ADF&G saltwater charter halibut logbook. NMFS and ADF&G coordinate closely in the development of this information collection for the monitoring and enforcement of the charter vessel catch limit of halibut.

A Catch Sharing Program was developed in IPHC Regulatory Areas 2C and 3A for the guided sport and commercial fisheries which authorized commercial halibut quota share (QS) holders to transfer individual fishing quota (IFQ) as guided angler fish (GAF) to charter halibut permit holders. A GAF electronic landing report and GAF permit log were added to provide efficiency in monitoring quota.

The primary objectives of the Catch Sharing Program are to change the annual process of allocating halibut between the charter and commercial fisheries in IPHC Areas 2C and 3A, establish allocations that balance the differing needs of the charter and commercial sectors that also float with varying levels of annual halibut abundance, and specify a process for determining harvest restrictions for charter anglers that are intended to limit harvest to the annual charter fishery catch limit.

II. Method of Collection

Respondents have a choice of either electronic or paper forms. Methods of submittal include email of electronic forms, and mail and facsimile transmission of paper forms.

III. Data

OMB Control Number: 0648-0575.

Form Number: None.

Type of Review: Regular submission (extension of a currently approved collection).

Affected Public: Business or other for-profit organizations; Individuals or households.

Estimated Number of Respondents: 696.

Estimated Time per Response: 5 minutes each for charter halibut logbook and GAF electronic landing report; 2 minutes for GAF permit log.

Estimated Total Annual Burden Hours: 4,733.

Estimated Total Annual Cost to Public: $2,366 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 19, 2014.
Gwellnar Banks,
Management Analyst, Office of the Chief Information Officer.

[FR Doc. 2014-06338 Filed 3-21-14; 8:45 am]

BILLING CODE 3510-22-P